DEPARTMENT OF THE TREASURY

Office of Thrift Supervision

12 CFR Parts 563b and 575

[No. 2000-57]

RIN 1550-AB24

Mutual Savings Associations, Mutual Holding Company Reorganizations, Conversions From Mutual to Stock Form

AGENCY: Office of Thrift Supervision, Treasury.

ACTION: Proposed rule; extension of comment period.

SUMMARY: The Office of Thrift Supervision (OTS) is extending the comment period until November 9, 2000 for its proposed rule regarding mutual savings associations, mutual holding company reorganizations, and conversions from mutual to stock form published on July 12, 2000.

DATES: Comments must be received by November 9, 2000.

ADDRESSES: Mail: Send comments to Manager, Dissemination Branch, Information Management and Services Division, Office of Thrift Supervision, 1700 G Street, NW., Washington, DC 20552, Attention Docket No. 2000-57.

Delivery: Hand deliver comments to the Guard's Desk, East Lobby Entrance, 1700 G Street, NW., from 9:00 a.m. to 4:00 p.m. on business days, Attention Docket No. 2000-57.

Facsimiles: Send facsimile transmissions to FAX Number (202) 906-7755, Attention Docket No. 2000-57; or (202) 906-6956 (if comments are over 25 pages).

E-Mail: Send e-mails to “public.info@ots.treas.gov”, Attention Docket No. 2000-57, and include your name and telephone number.

Public Inspection: Interested persons may inspect comments at the Public Reference Room, 1700 G St. NW., from 10:00 a.m. until 4:00 p.m. on Tuesdays and Thursdays or obtain comments and/or an index of comments by facsimile by telephoning the Public Reference Room at (202) 906-5900 from 9:00 a.m. until 5:00 on business days. Comments and the related index will also be posted on the OTS Internet Site at “www.ots.treas.gov”.

FOR FURTHER INFORMATION CONTACT: David A. Permut, Counsel (Business and Finance) (202) 906-7505, Business Transactions Division, Chief Counsel's Office; Timothy P. Leary, Counsel (Banking and Finance) (202) 906-7170, Regulations and Legislation Division, Chief Counsel's Office; Mary Jo Johnson, Project Manager, (202) 906-5739, Supervision Policy, Office of Thrift Supervision, 1700 G Street, NW., Washington, DC 20552.

SUPPLEMENTARY INFORMATION: The proposed rule and interim final rule, published in the Federal Register on July 12, 2000 (65 FR 43092 and 43088), indicated that public comments were to be submitted to the OTS no later than October 10, 2000. OTS has received a request for an extension of the comment period to accommodate the views of a number of mutual institution managers who will be meeting in the next 30 days. In order to afford the public adequate time to comment, the OTS has determined to extend the comment period for 30 days to accommodate this request. Therefore, the comment period is hereby extended until November 9, 2000.

Dated: October 4, 2000.
By the Office of Thrift Supervision.
Ellen Seidman,
Director.

[FR Doc. 00-25943 Filed 10-6-00; 8:45 am]

BILLING CODE 6720-01-P